TENNESSEE VALLEY AUTHORITY

Meeting of the Regional Resource Stewardship Council

AGENCY: Tennessee Valley Authority (TVA).

ACTION: Notice of Federal advisory committee act meeting.

SUMMARY: The TVA Regional Resource Stewardship Council (RRSC) will hold a meeting on November 18 and 19, 2024, regarding TVA's natural resources and stewardship matters in the Tennessee Valley.

DATES: The meeting will be held in Young Harris, Georgia at Brasstown Valley, Monday, November 18, 2023, from 12:00 p.m. to 5:15 p.m. E.T. and Tuesday, November 19, 2023, from 8:30 p.m. to 12:30 p.m. E.T. RRSC council members are invited to attend the meeting in person. The public is invited to view the meeting virtually or to attend in-person. A one hour virtual or in-person public listening session will be held November 18, at 4:15 p.m. E.T. A link and instructions to view the meeting will be posted on TVA's RRSC website at www.tva.gov/rrsc at least one week prior to the scheduled meeting.

ADDRESSES: The public is invited to view the meeting virtually or attend in person. The in-person meeting will be held at the Brasstown Valley at 6321 Hwy. 76, Young Harris, GA 30582. Members of the public are also invited to speak either virtually or in person during a public listening session.

FOR FURTHER INFORMATION CONTACT: Bekim Haliti, bhaliti@tva.gov, 931-349-1894.

SUPPLEMENTARY INFORMATION: The RRSC is a discretionary advisory committee established under the authority of the Tennessee Valley Authority (TVA) in accordance with the provisions of the Federal Advisory Committee Act (FACA), as amended, 5 U.S.C., App. 2.

The meeting agenda includes the following:

Day 1—November 18

1. Welcome and Introductions

2. RRSC and TVA Meeting Update

3. TVA and ORNL Climate Change Study

4. Integrated Resource Plan (IRP) Update

5. Public Listening Session

Day 2—November 19

6. Welcome and Review of Day 1

7. Update on TVA's River Management, Natural Resources, and Cultural Resources

8. Finalize Advice Statement

The RRSC will hear views of the public by providing a 1-hour public comment session starting November 18 at 4:15 p.m. E.T. Persons who wish to speak virtually must preregister by 5:00 p.m. E.T. Thursday, November 14, 2024, by emailing bhaliti@tva.gov. Persons wishing to speak in person are requested to register either at the door between 12:00 p.m. and 3:00 p.m. ET on Monday, November 18, 2024, or in advance by emailing bhaliti@tva.gov. Persons registered will be called on during the public listening session to share their views for up to five minutes, depending on number of registrants. Written comments are also invited and may be emailed to bhaliti@tva.gov. Anyone needing special accommodations should let the contact below know at least one week in advance.

Dated: October 28, 2024.
Melanie Farrell,
Vice President, Valley Engagement & Strategy, Tennessee Valley Authority.

[FR Doc. 2024-25357 Filed 10-30-24; 8:45 am]

BILLING CODE 8120-08-P